DEPARTMENT OF HOMELAND SECURITY

U.S. Immigration and Customs Enforcement

[OMB Control Number 1653-0045]

Agency Information Collection Activities; Extension, Without Change, of a Currently Approved Collection: Affidavit in Lieu of Lost Receipt of United States ICE for Collateral Accepted as Security

AGENCY: U.S. Immigration and Customs Enforcement, Department of Homeland Security.

ACTION: 60-Day notice.

SUMMARY: In accordance with the Paperwork Reductions Act (PRA) of 1995 the Department of Homeland Security (DHS), U.S. Immigration and Customs Enforcement (ICE) will submit the following Information Collection Request (ICR) to the Office of Management and Budget (OMB) for review and clearance.

DATES: Comments are encouraged and will be accepted until April 29, 2019.

ADDRESSES: You may submit comments, identified by docket number ICEB-2019-0001 by one of the following methods:

• Federal E-rulemaking Portal: http://www.regulations.gov. Follow the instructions for submitting.

• Email: icepra@ice.dhs.gov. Please include the docket number in the subject line of the message.

• Mail: Submit written comments of DHS, ICE, Office of the Chief Information Officer (OCIO), PRA Clearance, Washington, DC 20536-5800.

Instructions: All submissions received must include the agency name and docket number ICEB-2019-0001. All comments received will be posted without change to http://www.regulations.gov, including any personal information provided.

FOR FURTHER INFORMATION CONTACT: For specific question related to collection activities, please contact: John Monette, (802-288-7697), john.p.monette@ice.dhs.gov, Revenue Management Unit Chief-Bonds, U.S. Immigration and Customs Enforcement.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, Without Change, of a Currently Approved Collection.

(2) Title of the Form/Collection: Affidavit in Lieu of Lost Receipt of United States ICE for Collateral Accepted as Security.

(3) Agency form number, if any, and the applicable component of the Department of Homeland Security sponsoring the collection: I-395; U.S. Immigration and Customs Enforcement.

(4) Affected public who will be asked or required to respond, as well as a brief abstract: Primary: State, Local, or Tribal Government. Section 404(b) of the Immigration and Nationality Act (8 U.S.C. 1101 note) provides for the reimbursement of States and localities for assistance provided in meeting an immigration emergency. This collection of information allows for State or local governments to request reimbursement.

(5) An estimate of the total number of respondents and the amount of time estimated for an average respondent to respond: 10 Responses at 30 minutes (.50 hours) per response.

(6) An estimate of the total public burden (in hours) associated with the collection: 300 annual burden hours.

(7) An estimate of the total public burden (in cost) associated with the collection: The estimated annual cost burden associated with this collection of information is 87,500.

Dated: February 25, 2019.
Scott Elmore,
PRA Clearance Officer, Office of the Chief Information Officer, U.S. Immigration and Customs Enforcement, Department of Homeland Security.

[FR Doc. 2019-03547 Filed 2-27-19; 8:45 am]

BILLING CODE 9111-28-P